DEPARTMENT OF AGRICULTURE

Farm Service Agency

Commodity Credit Corporation

Information Collection: Long Term Contracting System (LTCS)

AGENCY: Farm Service Agency and Commodity Credit Corporation, USDA.

ACTION: Notice; request for comments.

SUMMARY: In accordance with the Paperwork Reduction Act of 1995 (PRA), the Farm Service Agency and Commodity Credit Corporation (CCC) at Kansas City Commodity Office (KCCO) are seeking comments from all interested individuals and organizations on an extension with revision of a currently approved information collection associated with the Long Term Contracting System. This collection is necessary for the procurement of agricultural commodities by KCCO for domestic feeding programs. Vendors bidding on long-term invitations complete and submit their offers on-line through the Long Term Contracting System (LTCS), which records the system date/time that the offer was submitted and ensures that the data remains secured within the system until bid opening time.

DATES: Comments on this notice must be received on or before May 27, 2008 to be assured consideration.

ADDRESSES: We invite you to submit comments on this notice. In your comment, include date and page number of this issue of the Federal Register. You may submit comments by any of the following methods:

E-mail: Send comments to: khristy.baughman@kcc.usda.gov.

Fax: (816) 926-1648.

Mail: Khristy Baughman, Chief, Business Operations Support Division, Kansas City Commodity Office (KCCO), P.O. Box 419205, Kansas City, Missouri 64141-0205.

Comments also should be sent to the Office of Information and Regulatory Affairs, Office of Management and Budget, Desk Officer for USDA, Washington, DC 20503.

FOR FURTHER INFORMATION CONTACT: Khristy Baughman, Chief, Business Operations Support Division, phone (816) 926-1200.

SUPPLEMENTARY INFORMATION: Title: Long Term Contracting System (LTCS).

OMB Number: 0560-0249.

Type of Request: Extension with revisions.

Abstract: The Long Term Contracting System (LTCS) is a Web-based application that streamlines the bid entry and evaluation functions for Long-Term, Indefinite-Delivery, Indefinite-Quantity (IDIQ) contracts. KCCO will generally issue invitations for bids to purchase commodities for domestic feeding programs on an annual, semi-annual, quarterly, or monthly basis; however, invitations may be issued more frequently, depending on various program requirements. Bid offers are received, evaluated, and awarded within the LTCS. Interested vendors submit a price per destination for each product, along with their available capacities per delivery period/month, and their answers to specific certification questions. The information collected is processed through the LTCS bid evaluation program to determine optimal awards. KCCO will analyze the results of the bid evaluation and award contracts to the eligible, responsible and responsive bidders whose offers are most advantageous to USDA in terms of the lowest overall cost. It is necessary to collect this information in order to evaluate bids impartially. The LTCS automatically ties together monthly allocation contracts with the applicable long-term contract, and since LTCS will access real-time data, users are able to access up-to-the-minute contract award information. Vendors can access LTCS on-line prior to bid opening time to submit, modify, or withdraw their offers. The automated process of LTCS significantly reduces the chance for errors in awards and reduces recordkeeping errors associated with the former manual process of tracking contract data.

Estimate of Burden: Public reporting burden for collecting information under this notice is estimated to average 23 hours per response.

Respondents: Interested vendors.

Respondents: 20.

Estimated Number of Annual Responses per Respondent: 2.

Estimated Total Annual Burden on Respondents: 920 hours.

Comments are invited on:

(1) Whether the collection of information is necessary for the proper performance of the functions of the agency, including whether the information will have practical utility;

(2) The accuracy of the agency's estimate of burden including the validity of the methodology and assumptions used;

(3) Enhancing the quality, utility and clarity of the information collected; or

(4) Minimizing the burden of the collection of the information on those who are to respond, including through the use of appropriate automated, electronic, mechanical, or other technological collection techniques or other forms of information technology.

All responses to this notice, including names and addresses when provided, will be a matter of public record. Comments will be summarized and included in the submission for Office of Management and Budget approval.

Signed at Washington, DC, on March 19, 2008.
Teresa C. Lasseter,
Executive Vice President, Commodity Credit Corporation, Administrator, Farm Service Agency.

[FR Doc. E8-5986 Filed 3-24-08; 8:45 am]

BILLING CODE 3410-05-P